DEPARTMENT OF AGRICULTURE

Farm Service Agency

Emergency Conservation Program; Supplemental Environmental Impact Statement

AGENCY: Farm Service Agency, USDA.

ACTION: Notice of intent; request for comments.

SUMMARY: The Farm Service Agency (FSA) announces its intention to prepare a Supplemental Environmental Impact Statement (SEIS) for the Emergency Conservation Program (ECP). The SEIS will assess the potential environmental impacts of alternatives for administration and implementation of the ECP. FSA administers this program and is now conducting a comprehensive review of its current policies, achievements, and potential future program changes. FSA will be analyzing a range of ECP program alternatives. The SEIS also provides a means for the public to have opportunities to voice any opinions they may have about the program, and any ideas for improving it in the future. This Notice of Intent (NOI) informs the public that FSA is requesting public comment and describes in general the description of preliminary ECP Alternatives that will be analyzed in the Draft SEIS.

DATES: To ensure that the full range of issues and alternatives related to the ECP are addressed, FSA invites comments. Comments should be submitted by close of business on December 24, 2007, to ensure full consideration. Comments submitted after this date will be considered to the extent possible.

ADDRESSES: Written comments on the scope of the Draft SEIS and requests for copies of should be directed to ECP SEIS, Geo-Marine Incorporated, 2713 Magruder Blvd., Suite D, Hampton, VA 23666-1572; or by logging on to http://public.geo-marine.com to obtain state specific public scoping meetings dates, locations, directions, and comment forms.

FOR FURTHER INFORMATION CONTACT: Matthew T. Ponish, National Environmental Compliance Manager, USDA/FSA/CEPD/Stop 0513, 1400 Independence Ave., SW., Washington, DC 20250-0513, (202) 720-6853, or e-mail at: Matthew.Ponish@wdc.usda.gov. More detailed information on ECP may be obtained from FSA's Web site: http://www.fsa.usda.gov/FSA/webapp?area=home&subject=copr&topic=ecp.

SUPPLEMENTARY INFORMATION: The SEIS is being prepared on the ECP to provide FSA decision makers and the public with an analysis that evaluates program effects in appropriate contexts, describes the intensity of adverse as well as beneficial impacts, and addresses cumulative impacts of ECP. Title IV of the Agricultural Credit Act of 1978, as amended (codified at 16 U.S.C. 2201-2205) authorized the ECP, which provides emergency funding for farmers and ranchers to rehabilitate farmland damaged by wind erosion, floods, hurricanes, or other natural disasters, and for carrying out emergency water conservation measures during periods of severe drought. Conservation problems existing prior to the disaster involved are not eligible for cost-sharing assistance. ECP is administered by FSA State and county committees. The SEIS will help FSA to review potential environmental impacts resulting from this program and the results will be used in implementing and modifying ECP administration and funding. The Record of Decision resulting from the SEIS will serve as guidance to FSA program decision makers when considering future ECP changes.

Public Participation

The public is urged to participate in helping to define the scope of the proposed Supplemental Environmental Impact Statement. In addition to allowing the opportunity to comment via mail and e-mail at the addresses listed previously, FSA plans to hold ten public scoping meetings to provide information and opportunities for discussing the issues and alternatives to be covered in the Draft SEIS and to receive oral and written comments. The meetings will be held in AL, CA, GA, FL, LA, MO, and TX. Each scoping meeting will be conducted in the evening to allow the greatest opportunity for public input. Please check http://public.geo-marine.com for meeting locations, times, directions, and comment forms.

Description of Preliminary SEIS Alternatives

FSA has developed a set of preliminary alternatives to be studied in the draft SEIS to initiate the process. The alternatives will be amended, as appropriate, based on input by the public and agencies during the public scoping process. The SEIS will address the following alternatives, which include recommended changes to the program.

Action (baseline)

Under this alternative, ECP would continue as it is currently administered with no substantive changes.

Alternative A

This alternative would consider changes to land eligibility that would make ECP available for assistance on farmlands other than cropland, pastureland, and hayland.

Alternative B

This alternative would make current ECP available only in those counties where disasters designated by the President or Secretary of Agriculture have occurred.

Alternative C

Alternative C would be a combination of Alternatives A and B. Under this alternative, farmlands, other than cropland, pastureland and hayland, in counties designated as disasters by the President or Secretary of Agriculture would be eligible for participation in ECP.

Signed in Washington, DC, on October 4, 2007.
Teresa C. Lasseter,
Administrator, Farm Service Agency.

[FR Doc. E7-20961 Filed 10-23-07; 8:45 am]

BILLING CODE 3410-05-P